Title 3—

The President

Proclamation 7742 of December 5, 2003

National Pearl Harbor Remembrance Day, 2003

By the President of the United States of America

A Proclamation

More than 60 years ago, President Franklin Delano Roosevelt told Americans that December 7, 1941, was “a date which will live in infamy.” On that morning, America was attacked without warning and without provocation. More than 2,400 Americans died and 1,100 were wounded. Our country was changed forever. Following that attack, our citizens responded with the strength and resolve that characterizes America in times of adversity, and that same spirit and courage carried us to victory in World War II. On National Pearl Harbor Remembrance Day, we honor the lives lost in that attack and salute the veterans of World War II. We also pay tribute to all those now serving America to advance freedom around the world.

The USS ARIZONA Memorial in Honolulu, Hawaii, stands as a monument to that ship's 1,177 crew members who died as a result of the attack. Since the Memorial's dedication, more than 40 million visitors have honored the heroism of these brave sailors and marines. Laura and I had the opportunity to visit the Memorial in October of this year. It is a fitting tribute to the lives lost in defense of our freedom during the greatest global conflict in history.

America's liberty is sustained by the courage of the American people. Every generation of Americans has answered the call to protect the blessings of freedom and democracy. With the help of our friends and allies, the brave men and women of our Armed Forces are now engaged in a global war on terrorism. And as in the aftermath of the terrible attack on Pearl Harbor, our Nation will stay the course, and we will prevail.

The Congress, by Public Law 103-308, as amended, has designated December 7, 2003, as “National Pearl Harbor Remembrance Day.”

NOW, THEREFORE, I, GEORGE W. BUSH, President of the United States of America, do hereby proclaim December 7, 2003, as National Pearl Harbor Remembrance Day. I encourage all Americans to observe this solemn occasion with appropriate ceremonies and activities. I urge all Federal agencies, interested organizations, groups, and individuals to fly the flag of the United States at half-staff this December 7 in honor of those who died as a result of their service at Pearl Harbor.

IN WITNESS WHEREOF, I have hereunto set my hand this fifth day of December, in the year of our Lord two thousand three, and of the Independence of the United States of America the two hundred and twenty-eighth.

B

[FR Doc. 03-30750

Filed 12-9-03; 8:45 am]

Billing code 3195-01-P